DEPARTMENT OF ENERGY

Federal Energy Regulatory Commission

[Docket No. CP00-64-000]

CNG Transmission Corporation; Notice of Intent To Prepare an Environmental Assessment for the Proposed Capstone Project, Request for Comments on Environmental Issues, and Notice of Site Visit

March 17, 2000.

The staff of the Federal Energy Regulatory Commission (FERC or Commission) will prepare an environmental assessment (EA) that will discuss the environmental impacts of the Capstone Project involving construction and operation of facilities proposed by CNG Transmission Corporation (CNG) in Elk, Jefferson, Armstrong and Potter Counties, Pennsylvania, and in Montgomery County, New York.¹

¹ CNG's application was filed with the Commission under Section 7 of the Natural Gas Act and Part 157 of the Commission's regulations.

CNG would:

• Construct approximately 13.6 miles of 30-inch-diameter pipeline loop (the TL474x2 pipeline) and 800 feet of 30-inch-diameter connector pipeline in Armstrong County, Pennsylvania;

• Construct a 4,450-horsepower (hp) compressor at the Punxsutawney Compressor Station in Jefferson County, Pennsylvania;

• Construct two 3,200-hp compressors alongside the existing Little Greenlick Relay Station in Potter County, Pennsylvania;

• Construct a new 7,000-hp Brookman Corners Compressor Station in Montgomery County, New York;

• Upgrade the Ardell Compressor Station in Elk County, Pennsylvania by replacing a 12,600-hp engine with a 15,000-hp engine; and

• Abandon approximately 13 miles (11.2 miles in-place and 1.8 miles by removal) of the 12-inch-diameter LN-9 Pipeline in Armstrong County, Pennsylvania.

The facilities would allow CNG to provide service on CNG's system that is comparable to service currently provided under a contract with Tennessee Gas Pipeline Company.

Our EA will be used by the Commission in its decision-making process to determine whether the project is in the public convenience and necessity.

If you are a landowner receiving this notice, you should have been contacted by the pipeline company about the acquisition of an easement to construct, operate, and maintain the proposed facilities. You should also have been contacted by CNG if you reside within ½ mile of a compressor station. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice CNG provided to landowners. This fact sheet addresses a number of typically asked questions, including the use of eminent domain and how to participate in the Commission's proceedings. It is available for viewing on the FERC Internet website (www.ferc.fed.us).

The location of the proposed project facilities is shown in appendix 1, figures 1 through 6.²

² The appendices referenced in this notice are not being printed in the Federal Register. Copies are available on the Commission's website at the “RIMS” link or from the Commission's Public Reference and Files Maintenance Branch, 888 First Street, NE, Washington, DC 20426, or call (202) 208-1371. For instructions on connecting to RIMS refer to the last page of this notice. Copies of the appendices were sent to all those receiving this notice in the mail.

Land Requirements for Construction

Constructing the proposed pipeline would generally require a 75-foot-wide corridor. Approximately 5 miles of the route which crosses agricultural land would require an additional 25 feet to stockpile topsoil (a 100-foot-wide easement). The proposed pipeline would parallel existing pipelines for 11.8 miles and would make use of (overlap) 25 feet of existing maintained pipeline easement during construction and only require an additional 25 feet of permanent right-of-way to accommodate the new pipeline. The 1.9 miles of new right-of-way to accommodate the new pipeline. The 1.9 miles of new right-ow-way to accommodate the pipeline. The 1.9 miles of new right-of-way at the southern end of the pipeline would require a 50-foot-wide new permanent easement.

Pipeline construction would disturb approximately 140 acres. Following construction, the land disturbed by construction activities would be restored and allowed to revert to its former use. The project would require approximately 47 acres of new permanent pipeline easement (35.5 acres paralleling existing right-of-way and 11.5 acres of new corridor).

Construction at the proposed Little Greenlick Compressor Station would require about 22.21 acres and at the proposed Brookman Corners Compressor Station about 15.5 acres. After construction these areas would also be restored and revert to previous use except for 6.3 acres that would be maintained at each location as compressor station yards. Construction at the Punxsutawney and Ardell Compressor stations would occur within existing fenced compressor station yards and would involve an acre or less of ground disturbance.

The EA Process

The National Environmental Policy Act (NEPA) requires the Commission to take into account the environmental impacts that could result from an action whenever it considers the issuance of a Certificate of Public Convenience and Necessity. NEPA also requires us to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

The EA will discuss impacts that would occur as a result of the construction and operation of the proposed project under these general headings:

• Geology and soils.

• Water resources, fisheries, and wetlands.

• Vegetation and wildlife.

• Endangered and threatened species.

• Land use.

• Cultural resources.

• Air quality and noise.

• Public safety.

We will also evaluate possible alternatives to the proposed or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by CNG. This preliminary list of issues may be changed based on your comments and our analysis.

1. Residences and Wells

—Impacts on 27 wells and 6 springs within 150 feet of the right-of-way.

—Impacts on four residences laying within 50 feet of the centerline of the new pipe; and another eight structures within 100 feet of the edge of the construction right-of-way.

2. Compressor Station Noise

Twenty-six residents near the Punxsutawney Compressor Station have expressed concern about existing noise levels and the potential for the project to result in further increases.

3. Geology and Soils Impacts

—Impacts on 3.3 miles of prime farmland soils.

—Impacts on 6.4 miles of erosion prone soils.

4. Water Resources and Wetlands

—Impacts to 3 perennial streams, 9 intermittent streams, and 10 drainage ways.

—Impacts to 19 wetlands.

—Impact to Crooked Creek from withdrawal of 2.5 million galls of water for hydrostatic testing of the pipeline.

5. Biological Resources

—Impacts on about 45 acres of deciduous forest.

—Impacts on the timber rattlesnake, Crotalus horridus, a Pennsylvania state candidate for the threatened and endangered list.

—Impacts on the Northern Harrier, Circus cyaneus, a New York state threatened species.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send two copies of your letter to: David P. Boergers, Secretary, Federal Energy Regulatory Commission, 888 First St., NE, Room 1A, Washington, DC 20426.

• Label one copy of the comments for the attention of the Gas Group 2, PJ-11.2.

• Reference Docket No. CP00-64-000.

• Mail your comments so that they will be received in Washington, DC on or before April 17, 2000.

On April 3 and 4, 2000, the Office of Energy Projects will conduct a precertification site visit of the pipeline route and compressor station sites. All parties may attend. Those planning to attend must provide their own transportation.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-7151 Filed 3-22-00; 8:45 am]

BILLING CODE 6717-01-M